DEPARTMENT OF THE TREASURY

Agency Information Collection Activities; Proposed Collection; Comment Request; Inflation Reduction Act Storytelling Educational Program

AGENCY: Departmental Offices, Department of the Treasury.

ACTION: Notice of information collection; request for comment.

SUMMARY: The Department of the Treasury, as part of its continuing effort to reduce paperwork and respondent burden, invites the general public and other federal agencies to comment on the proposed information collection listed below, in accordance with the Paperwork Reduction Act of 1995.

DATES: Written comments must be received on or before August 20, 2024.

ADDRESSES: Send comments regarding the burden estimate, or any other aspect of the information collection, including suggestions for reducing the burden, to Treasury PRA Clearance Officer, 1750 Pennsylvania Ave. NW, Suite 8100, Washington, DC 20220, or email at PRA@treasury.gov.

FOR FURTHER INFORMATION CONTACT: Copies of the submissions may be obtained from Christopher Sun by emailing christopher.sun@treasury.gov, calling (202) 819-6332, or viewing the entire information collection request at www.reginfo.gov.

SUPPLEMENTARY INFORMATION:

Title: Inflation Reduction Act Storytelling Educational Program.

OMB Control Number: 1505-NEW.

Type of Review: Request for a new OMB Control Number.

Description: Located on the Treasury.gov/IRA website, the IRA Storytelling Educational Program would feature a participation consent form and a series of questions—designed to offer members of the public who opt into self-disclosing information about their IRA-related experience with claiming clean energy incentives or using IRS modernization programs and resources—and enable Treasury officials to communicate their stories to the broader American public.

The IRA Storytelling Educational Program would serve to increase awareness of the IRA's tax incentives and other impacts so that more individuals, businesses, tax-exempt organizations, and others are aware of and understand the incentives now available to them, thereby promoting uptake, and the IRA's broader purpose. Public participation is entirely voluntary.

Form: None.

Affected Public: Individuals, Businesses, Tax-Exempt Entities.

Estimated Number of Respondents: Less than 1,000.

Frequency of Response: Once per consenting respondent.

Estimated Total Number of Annual Responses: Less than 1,000.

Estimated Time per Response: 30 minutes.

Estimated Total Annual Burden Hours: Less than 500 hours.

Request for Comments: Comments submitted in response to this notice will be summarized and included in the request for Office of Management and Budget approval. All comments will become a matter of public record. Comments are invited on: (a) whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of technology; and (e) estimates of capital or start-up costs and costs of operation, maintenance, and purchase of services required to provide information.

Authority: 44 U.S.C. 3501 et seq.

Spencer W. Clark,
Treasury PRA Clearance Officer.

[FR Doc. 2024-13600 Filed 6-20-24; 8:45 am]

BILLING CODE 4810-AK-P